NATIONAL AERONAUTICS AND SPACE ADMINISTRATION

[Notice (07-089)]

Government-Owned Inventions, Available for Licensing

AGENCY: National Aeronautics and Space Administration.

ACTION: Notice of Availability of Inventions for Licensing.

SUMMARY: The inventions listed below are assigned to the National Aeronautics and Space Administration, and are the subjects of patent applications that have been filed in the United States Patent and Trademark office, and are available for licensing.

DATES: December 7, 2007.

FOR FURTHER INFORMATION CONTACT: Mark W. Homer, Patent Counsel, NASA Management Office—JPL, 4800 Oak Grove Drive, Mail Stop 180-200, Pasadena, CA 91109; telephone (818) 354-7770.

NASA Case No. DRC-007-041: Cable Tensiometer for Aircraft;

NASA Case No. NPO-44079-1: Enhanced Interference Cancellation and Telemetry Reception in Multipath Environments with a Single Parabolic Dish Antenna Using a Focal Plane Array;

NASA Case No. NPO-44383-1: Method of Shifting and Fixing Optical Frequency of an Optical Resonator, and Optical Resonator Made by Same;

NASA Case No. NPO-44469-1: Differential Temperature Sensor System and Method;

NASA Case No. NPO-45113-1: Nanotunneling Junction-Based Hyperspectral Polarimetric Photodetector and Detection Method.

Dated: November 30, 2007.
Keith T. Sefton,
Deputy General Counsel, Administration and Management.

[FR Doc. E7-23739 Filed 12-6-07; 8:45 am]

BILLING CODE 7510-13-P